SECURITIES AND EXCHANGE COMMISSION

[Release No. 34-78846; File No. SR-ICC-2016-010]

Self-Regulatory Organizations; ICE Clear Credit LLC; Notice of Designation of Longer Period for Commission Action on Proposed Rule Change To Revise the ICC Risk Management Model Description Document and the ICC Risk Management Framework

September 15, 2016.

On July 15, 2016, ICE Clear Credit LLC (“ICC”) filed with the Securities and Exchange Commission (“Commission”), pursuant to Section 19(b)(1) of the Securities Exchange Act (“Act”) ¹ and Rule 19b-4 thereunder,² a proposed rule change to revise the ICC Risk Management Framework to incorporate certain risk model enhancements. ICC also proposed minor clarifying edits to the ICC Risk Management Model Description document and the ICC Risk Management Framework (File No. SR-ICC-2016-010). The proposed rule change was published for comment in the Federal Register on August 4, 2016.³ To date, the Commission has not received comments on the proposed rule change.

¹ 15 U.S.C. 78s(b)(1).

² 17 CFR 240.19b-4.

³ Securities Exchange Act Release No. 34-78448 (July 29, 2016), 81 FR 51532 (Aug. 4, 2016) (SR-ICC-2016-010).

Section 19(b)(2) of the Act ⁴ provides that within 45 days of the publication of notice of the filing of a proposed rule change, or within such longer period up to 90 days as the Commission may designate if it finds such longer period to be appropriate and publishes its reasons for so finding or as to which the self-regulatory organization consents, the Commission shall either approve the proposed rule change, disapprove the proposed rule change, or institute proceedings to determine whether the proposed rule change should be disapproved. The 45th day from the publication of notice of filing of this proposed rule change is September 18, 2016.

⁴ 15 U.S.C. 78s(b)(2).

The Commission is extending the 45-day time period for Commission action on the proposed rule change. ICC's proposed rule change would modify the ICC Risk Management Framework. The Commission finds it appropriate to designate a longer period within which to take action on the proposed rule change so that it has sufficient time to consider ICC's proposed rule change.

Accordingly, the Commission, pursuant to Section 19(b)(2) of the Act,⁵ designates November 2, 2016 as the date by which the Commission should either approve or disapprove, or institute proceedings to determine whether to disapprove, the proposed rule change (File No. SR-ICC-2016-010).

⁵ 15 U.S.C. 78s(b)(2).

For the Commission, by the Division of Trading and Markets, pursuant to delegated authority.⁶
⁶ 17 CFR 200.30-3(a)(31).
Robert W. Errett,
Deputy Secretary.

[FR Doc. 2016-22623 Filed 9-19-16; 8:45 am]

BILLING CODE 8011-01-P